NATIONAL AERONAUTICS AND SPACE ADMINISTRATION

[Notice (08-067)]

Aerospace Safety Advisory Panel; Meeting

AGENCY: National Aeronautics and Space Administration (NASA).

ACTION: Notice of meeting.

SUMMARY: In accordance with the Federal Advisory Committee Act, Public Law 92-463, as amended, the National Aeronautics and Space Administration announce a forthcoming meeting of the Aerospace Safety Advisory Panel (ASAP).

DATES: Thursday, October 23, 2008, 1 p.m. to 3 p.m.

ADDRESSES: NASA Ames Conference Center (Building 3), Room: Ballroom, 500 Severyns Road, NASA Research Park, NASA Ames Research Center (ARC), Moffett Field, CA 94035-1000.

FOR FURTHER INFORMATION CONTACT: Ms. Kathy Dakon, ASAP Executive Director, National Aeronautics and Space Administration, Washington, DC 20546, (202) 358-0732.

SUPPLEMENTARY INFORMATION: The ASAP will hold its 4th Quarterly Meeting for 2008. This discussion is pursuant to carrying out its statutory duties for which the Panel reviews, identifies, evaluates, and advises on those program activities, systems, procedures, and management activities that can contribute to program risk. Priority is given to those programs that involve the safety of human flight. The agenda will include ARC Overview, ARC Safety Status Update, Overview of New Human Rating Requirements for Space Systems, and Ares I Development Status.

The meeting will be open to the public up to the seating capacity of the room. It is imperative that the meeting be held on this date to accommodate the scheduling priorities of the key participants. Photographs will only be permitted during the first 10 minutes of the meeting. During the first 30 minutes of the meeting, members of the public may make a 5-minute verbal presentation to the Panel on the subject of safety in NASA. To do so, please contact Ms. Susan Burch on (202) 358-0550 at least 48 hours in advance. Any member of the public is permitted to file a written statement with the Panel at the time of the meeting. Verbal presentations and written comments should be limited to the subject of safety in NASA. Visitors will need to show a valid picture identification such as driver's license to enter into the NASA Research Park, and must state they are attending the session in the NASA ARC Conference Center. To obtain a visitor badge, all visitors must go to Building 26, NASA Research Park, located at the main gate on Moffett Boulevard.

All non-U.S. citizens must submit their name, current address, citizenship, company affiliation (if applicable) to include address, telephone number, and their title, place of birth, date of birth, U.S. visa information to include type, number, and expiration date, U.S. Social Security Number (if applicable), Permanent Resident Alien card number and expiration date (if applicable), place and date of entry into the U.S., and Passport information to include Country of issue, number, and expiration date to Rho Christensen, Protocol Specialist, Office of the Center Director, NASA ARC, Moffett Field, CA, by October 17, 2008. For questions, please call Rho Christensen at (650) 604-2476.

Al Condes,
Deputy Assistant Administrator for External Relations.

[FR Doc. E8-23611 Filed 10-6-08; 8:45 am]

BILLING CODE 7510-13-P